DEPARTMENT OF HEALTH AND HUMAN SERVICES

Centers for Disease Control and Prevention

[CDC-2013-0021; Docket Number NIOSH-245, 245-A]

Issuance of Final Guidance Publication

AGENCY: National Institute for Occupational Safety and Health (NIOSH) of the Centers for Disease Control and Prevention (CDC), Department of Health and Human Services (HHS).

ACTION: Notice of issuance of final guidance publication.

SUMMARY: NIOSH announces the availability of the following final publication: “Criteria for a Recommended Standard: Occupational Exposure to Diacetyl and 2,3-pentanedione” [DHHS(NIOSH) Publication Number 2016-111].

DATES: The final criteria document was published October 31, 2016.

ADDRESSES: This document may be obtained at the following link: http://www.cdc.gov/niosh/docs/2016-111.

FOR FURTHER INFORMATION CONTACT: Lauralynn McKernan, NIOSH/Division of Surveillance, Hazard Evaluations and Field Studies, 1090 Tusculum Avenue, MS R-12, Cincinnati, OH 45226. 513-533-8542 (not a toll free number).

SUPPLEMENTARY INFORMATION: On July 25, 2011, NIOSH published a notice of public meeting and request for comments on the draft “Criteria for a Recommended Standard: Occupational Exposure to Diacetyl and 2,3-pentanedione.” in the Federal Register (76 FR 44338). On October 18, 2011, NIOSH published an extension of comment period (76 FR 64353). On April 11, 2012, NIOSH published an expanded charge for peer reviewers (77 FR 21777) and then on December 26, 2013, NIOSH published another notice (78 FR 78363) for review of revised Chapters 6 and 8 of the Criteria document. All comments received were reviewed and accepted where appropriate. Comments for Docket 245 are available at: http://www.cdc.gov/niosh/docket/archive/docket245.html. Comments for Docket 245-A can be found in the docket at: www.regulations.gov, Docket No. CDC-2013-0021.

Dated: October 28, 2016.
John Howard,
Director, National Institute for Occupational Safety and Health, Centers for Disease Control and Prevention.

[FR Doc. 2016-26507 Filed 11-2-16; 8:45 am]

BILLING CODE 4163-19-P